DEPARTMENT OF DEFENSE

Defense Acquisition Regulations System

[Docket Number DARS-2020-0003; OMB Control Number 0704-0398]

Information Collection Requirement; Defense Federal Acquisition Regulation Supplement (DFARS); Describing Agency Needs; Submission for OMB Review; Comment Request

AGENCY: Defense Acquisition Regulations System, Department of Defense (DoD).

ACTION: Notice.

SUMMARY: The Defense Acquisition Regulations System has submitted to OMB for clearance, the following proposed revision and extension of a collection of information under the provisions of the Paperwork Reduction Act.

DATES: Consideration will be given to all comments received by June 29, 2020.

SUPPLEMENTARY INFORMATION: Title and OMB Number: Defense Federal Acquisition Regulation Supplement (DFARS) Part 211, Describing Agency Needs, and Related Clause at 252.211; OMB Control Number 0704-0398.

Type of Request: Revision and extension.

Affected Public: Businesses or other for-profit and not-for-profit institutions.

Respondent's Obligation: Required to obtain or retain benefits.

Number of Respondents: 256.

Responses per Respondent: About 254.

Annual Responses: 65,000.

Average Burden per Response: .25 hours, approximately.

Annual Burden Hours: 16,250.

Reporting Frequency: On occasion.

Needs and Uses: This information collection pertains to DFARS clause 252.211-7007, Reporting of Government-Furnished Property, which requires contractors to report to the Item Unique Identification (IUID) Registry all Government-furnished property (GFP), as well as contractor receipt of non-serially managed items. “Serially managed item” means an item designated by DoD to be uniquely tracked, controlled, or managed in maintenance, repair, and/or supply systems by means of its serial number. The clause provides a list of specific data elements contractors are to report to the IUID registry, as well as procedures for updating the registry. DoD needs this information to strengthen the accountability and end-to-end traceability of GFP within DoD. Through electronic notification of physical receipt, DoD is made aware that GFP has arrived at the contractor's facility. The DoD logistics community uses the information as a data source of available DoD equipment. In addition, the DoD organization responsible for contract administration uses the data to test the adequacy of the contractor's property management system.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer Lee Hawes,
Regulatory Control Officer, Defense Acquisition Regulations System.

[FR Doc. 2020-11491 Filed 5-27-20; 8:45 am]

BILLING CODE 5001-06-P